ENVIRONMENTAL PROTECTION AGENCY

40 CFR Part 300

[EPA-HQ-SFUND-2012-0738; FRL-9772-9]

RIN 2050-AG73

National Oil and Hazardous Substances Pollution Contingency Plan; Revision To Increase Public Availability of the Administrative Record File

AGENCY: Environmental Protection Agency (EPA).

ACTION: Withdrawal of direct final rule.

SUMMARY: Because EPA received adverse comment, we are withdrawing the direct final rule for National Oil and Hazardous Substances Pollution Contingency Plan; Revision to Increase Public Availability of the Administrative Record File, published on November 7, 2012.

DATES: Effective January 22, 2013, EPA withdraws the direct final rule published at 77 FR 66729 on November 7, 2012.

FOR FURTHER INFORMATION CONTACT: For general information, contact Melissa Dreyfus at (703) 603-8792 (dreyfus.melissa@epa.gov), U.S. Environmental Protection Agency, 1200 Pennsylvania Avenue NW., Washington, DC 20460-0002, Mail Code 5204P.

SUPPLEMENTARY INFORMATION: Because EPA received adverse comment, we are withdrawing the direct final rule for National Oil and Hazardous Substances Pollution Contingency Plan; Revision to Increase Public Availability of the Administrative Record File, published on November 7, 2012 (77 FR 66729). We stated in that direct final rule that if we received adverse comment by December 7, 2012, the direct final rule would not take effect and we would publish a timely withdrawal in the Federal Register. We subsequently received adverse comment on that direct final rule, which we plan to address in a subsequent final rulemaking based on the parallel proposed rule also published on November 7, 2012 (77 FR 66783). As stated in the direct final rule and the parallel proposed rule, we will not institute a second comment period on this action.

List of Subjects in 40 CFR Part 300

Environmental protection, Air pollution control, Chemicals, Hazardous substances, Hazardous waste, Intergovernmental relations, Penalties, Reporting and recordkeeping requirements, Superfund, Water pollution control, Water supply.

Dated: January 15, 2013.
Mathy Stanislaus,
Assistant Administrator, Office of Solid Waste and Emergency Response.

Accordingly, EPA withdraws the amendment to 40 CFR 300.805(c), published in the Federal Register on November 7, 2012 (77 FR 66729), as of January 22, 2013.

[FR Doc. 2013-01191 Filed 1-18-13; 8:45 am]

BILLING CODE 6560-50-P